DEPARTMENT OF HEALTH AND HUMAN SERVICES

Office of the Secretary

[Document Identifier: HHS-OS-0990-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before July 16, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New-30D for reference.

Information Collection Request Title: Healthy People User Study.

Abstract

Healthy People is a national health promotion and disease prevention initiative managed out of the Office of the Assistant Secretary for Health (OASH), Office of Disease Prevention and Health Promotion (ODPHP). HHS/OS/OASH/ODPHP is seeking OMB approval to conduct a short survey using a self-administered questionnaire of state, local, and tribal organizations; Healthy People Consortium organizations; and Healthy People webinar attendees. The survey will be administered via a web-based platform.

The Healthy People initiative has provided a comprehensive set of data-driven, national disease prevention and health promotion objectives with 10-year targets aimed at improving the health of all Americans since 1979. Healthy People 2020 (HP2020) is the fourth iteration of the Healthy People initiative. Its overarching goals are: To attain high-quality, longer lives free of preventable disease, disability, injury, and premature death; to achieve health equity, eliminate disparities, and improve the health of all groups; to create social and physical environments that promote good health for all; and to promote quality of life, healthy development, and health behaviors across all life stages. HP2020 consists of over 1200 objectives organized under 42 topic areas.

Likely Respondents: Healthy People State Coordinators, State Health Department Senior Deputy Directors, local and tribal health organizations, Healthy People Consortium organizations, and Healthy People webinar attendees.

Total Estimated Annualized Burden—Hours
Type of respondent | Number of respondents | Number responses per respondent | Average burden per response (hours) | Total burden hours
Healthy People State Coordinators (Frame A) | 59 | 1 | 18/60 | 18
Senior Deputy Directors (Frame A*) | 57 | 1 | 18/60 | 17
Local Health Organizations (Frame B) | 375 | 1 | 18/60 | 113
Tribal Health Organizations (Frame C) | 100 | 1 | 18/60 | 30
Tribal Area Health Boards (Frame D) | 11 | 1 | 18/60 | 3
Healthy People Consortium Organizations (Frame E) | 250 | 1 | 18/60 | 75
Healthy People Webinar Attendees (Frame F) | 250 | 1 | 18/60 | 75
Total | 1,102 |  |  | 331

Darius Taylor,
Information Collection Clearance Officer.

[FR Doc. 2015-14684 Filed 6-15-15; 8:45 am]

BILLING CODE 4150-32-P